DEPARTMENT OF TRANSPORTATION

Pipeline and Hazardous Materials Safety Administration

[Docket No. PHMSA-2007-27181 (Notice No. 07-10)]

Information Collection Activities

AGENCY: Pipeline and Hazardous Materials Safety Administration (PHMSA), DOT.

ACTION: Notice and request for comments.

SUMMARY: The Information Collection Request (ICR) entitled “Hazardous Materials Public Sector Training and Planning Grants” is being revised to implement a statutory provision authorizing PHMSA to request information from states concerning fees related to the transportation of hazardous materials. In addition, this ICR is being revised to include more detailed information from grantees to enable us to more accurately evaluate the effectiveness of the grant program in meeting emergency response planning and training needs. In compliance with the Paperwork Reduction Act of 1995, this notice announces that the ICR will be submitted to the Office of Management and Budget (OMB) for revision and extension.

DATES: Comments must be submitted on or before December 21, 2007.

ADDRESSES: Send comments regarding the burden estimates, including suggestions for reducing the burden, to the Office of Management and Budget, Attention: Desk Officer for PHMSA, 725 17th Street, NW., Washington, DC 20503.

We invite commenters to address the following issues: (1) Whether the proposed collection of information is necessary for the proper performance of the functions of the Department, including whether the information will have practical utility; (2) the accuracy of the Department's estimate of the burden of the proposed information collection; (3) ways to enhance the quality, utility, and clarity of the information to be collected; and (4) ways to minimize the burden of the collection of information on respondents, including the use of automated collection techniques or other forms of information technology.

A comment to OMB is most effective if OMB receives it within 30 days of publication.

FOR FURTHER INFORMATION CONTACT: Deborah Boothe or T. Glenn Foster, Office of Hazardous Materials Standards (PHH-11), Pipeline and Hazardous Materials Safety Administration, 1200 New Jersey Avenue, SE., East Building, 2nd Floor, Washington, DC 20590-0001, Telephone (202) 366-8553.

SUPPLEMENTARY INFORMATION:

I. Background

Section 1320.8(d), Title 5, Code of Federal Regulations requires PHMSA to provide interested members of the public and affected agencies an opportunity to comment on information collection and recordkeeping requests. This notice identifies an information collection PHMSA is submitting to OMB for revision under OMB Control Number 2137-0586. This collection is contained in 49 CFR part 110, Hazardous Materials Public Sector Training and Planning Grants. We are revising the information collection to implement a statutory provision authorizing PHMSA to request information from states concerning fees related to the transportation of hazardous materials. In addition, we are revising the current information collection to include more detailed information from grantees to enable us to more accurately evaluate the effectiveness of the grant program in meeting emergency response planning and training needs.

A. HMEP Program

The Hazardous Materials and Emergency Preparedness (HMEP) grants program, as mandated by the Federal hazardous materials transportation law (Federal hazmat law; 49 U.S.C. 5101 et seq.) provides Federal financial and technical assistance to states and Indian tribes to “develop, improve, and carry out emergency plans” within the National Response System and the Emergency Planning and Community Right-To-Know Act of 1986 (Title III), 42 U.S.C. 11001 et seq. The grants are used to develop, improve, and implement emergency plans; to train public sector hazardous materials emergency response employees to respond to accidents and incidents involving hazardous materials; to determine flow patterns of hazardous materials within a state and between states; and to determine the need within a state for regional hazardous materials emergency response teams. The HMEP grants program is funded by registration fees collected from persons who offer for transportation or transport certain hazardous materials in intrastate, interstate, or foreign commerce.

Federal hazmat law specifies that HMEP grant funds are to be allocated based on the needs of states and Indian tribes for emergency response planning and training, considering a number of factors including whether the state or tribe imposes and collects a fee on the transportation of hazardous materials and whether the fee is used only to carry out a purpose related to the transportation of hazardous materials. 49 U.S.C. 5116(b)(4). Accordingly, the HMEP grant application procedures in 49 CFR part 110 require applicants to submit a statement explaining whether the applicant assesses and collects fees for the transportation of hazardous materials and whether those fees are used solely to carry out purposes related to the transportation of hazardous materials.

In addition, section 5125(f) of the Federal hazmat law permits a state, political subdivision of a state, or Indian tribe to impose a fee related to the transportation of hazardous materials only if the fee is fair and used for a purpose related to transporting hazardous materials, including enforcement and planning, developing, and maintaining a capability for emergency response. In accordance with § 5125, the Department of Transportation may require a state, political subdivision of a state, or Indian tribe to report on the fees it collects, including: (1) The basis on which the fee is levied; (2) the purposes for which the revenues from the fee are used; and (3) the total amount of annual revenues collected from the fee. Until now, we have not proposed asking states, political subdivisions, or Indian tribes to report this information.

B. 60-Day Notice

On July 5, 2007, we published a Federal Register notice [72 FR 36754] with a 60-day comment period, soliciting comments on revisions to the instructions for submitting an HMEP grant application. The revisions are intended to increase the transparency of the programs funded by HMEP grants and to enable us to more accurately evaluate the effectiveness of the HMEP program in meeting emergency response planning and training needs. Specifically, in accordance with the statutory mandate in 49 U.S.C. 5116(b)(4) and 5125(f), we proposed to revise the grant application to request applicants to respond to the following questions:

1. Does your state or tribe assess a fee or fees in connection with the transportation of hazardous materials?

2. If the answer to question 1 is “yes,”

a. What state agency administers the fee?

b. What is the amount of the fee and the basis on which the fee is assessed? Examples of the bases on which fees may be assessed include: (1) An annual fee for each company which transports hazardous materials within your state or tribal territory; (2) a fee for each truck or vehicle used to transport hazardous materials within your state or tribal territory; (3) a fee for certain commodities or quantities of hazardous materials transported in your state or tribal territory; or (4) a fee for each hazardous materials shipment transiting your state or tribal territory.

c. Is company size considered when assessing the fee? For instance, do companies meeting the Small Business Administration's (SBA) definition of a small business pay the same or lesser fee amount than companies that do not meet the SBA definition?

d. For what purpose(s) is the revenue from the fee used? For example, is the revenue used to support hazardous materials transportation enforcement programs? Is the fee used to support planning, developing, and maintaining an emergency response capability?

e. What is the total annual amount of the revenue collected for the last fiscal year or 12-month accounting period?

In addition, to assist us to evaluate the effectiveness of the HMEP grant program, we proposed to ask grant recipients to report the following specific information regarding the planning and training activities funded by the HMEP grants and to provide an overall evaluation of the effectiveness of their programs:

Planning Grants

1. Did you complete or update assessments of commodity flow patterns in your jurisdiction? If so, how many and what were the results of those assessments? What was the amount of planning dollars devoted to this effort? What percentage of total planning dollars does this represent?

2. Did you complete or update assessments of the emergency response capabilities in your jurisdiction? What factors did you consider to complete such assessments? How many assessments were completed and what were the results of those assessments? What was the amount of HMEP planning grant funds devoted to this effort? What percentage of total HMEP planning grant funds does this represent?

3. Did you develop or improve emergency plans for your jurisdiction? If so, how many plans were either developed or updated? Briefly describe the outcome of this effort. What was the amount of HMEP planning grant funds devoted to this effort? What percentage of total HMEP planning grant funds does this represent?

4. Did you conduct emergency response drills or exercises in support of your emergency plan? How many exercises or drills did you conduct? Briefly describe the drill or exercise (tabletop, computer simulation, real-world simulation, or other drill or exercise), the number and types of participants, including shipper or carrier participants, and lessons learned. What was the amount of HMEP planning grant funds devoted to this effort? What percentage of total HMEP planning grant funds does this represent?

5. Did you use HMEP planning grant funds to provide technical staff in support of your emergency response planning program? If so, what was the amount of HMEP planning grant funds devoted to this effort? What percentage of total HMEP planning grant funds does this represent?

6. How many Local Emergency Planning Committees (LEPCs) are located in your jurisdiction? How many LEPCs were assisted using HMEP funds? What was the amount of HMEP planning grant funds devoted to such assistance? What percentage of total HMEP planning grant funds does this represent?

Training Grants

1. Did you complete an assessment of the training needs of the emergency response personnel in your jurisdiction? What factors did you consider to complete the assessment? What was the result of that assessment? What was the amount of HMEP training grant funds devoted to this effort? What percentage of total HMEP training grants funds does this represent?

2. Provide details concerning the number of individuals trained in whole or in part using HMEP training grant funds. You should include separate indications for the numbers of fire, police, emergency medical services (EMS) or other personnel who were trained and the type of training provided based on the categories listed in standards published by the Occupational Safety and Health Administration at 29 CFR 1910.120 pertaining to emergency response training. (Note that “other” personnel include public works employees, accident clean-up crews, and liaison and support officers. Note also that if HMEP training grant funds were used in any way to support the training, such as for books or equipment, you should show that the training was partially funded by HMEP training grant funds.) What was the amount of training dollars devoted to this effort? What percentage of total training dollars does this represent?

3. Did you incur expenses associated with training and activities necessary to monitor such training, including, for example, examinations, critiques, and instructor evaluations? What was the amount of HMEP training grant funds devoted to this activity? What percentage of total HMEP training grant funds does this represent?

4. Did you provide incident command systems training? If so, provide separate indications for the numbers of fire, policy, EMS, or other personnel who were trained. What was the amount of HMEP training grant funds devoted to this effort? What percentage of total HMEP training grant funds does this represent?

5. Did you develop new training using HMEP training grant funds in whole or in part, such as training in handling specific types of incidents of specific types of materials? If so, briefly describe the new programs. Was the program qualified using the HMEP Curriculum Guidelines process? What was the amount of HMEP training grant funds devoted to this effort? What percentage of total HMEP training grant funds does this represent?

6. Did you use HMEP training grant funds to provide staff to manage your training program to increase benefits, proficiency, and rapid deployment of emergency responders? If so, what was the amount of HMEP training grant funds devoted to this effort? What percentage of total HMEP training grant funds does this represent?

7. Do you have a system in place for measuring the effectiveness of emergency response to hazardous materials incidents in your jurisdiction? Briefly describe the criteria you use (total response time, total time at an accident scene, communication among different agencies or jurisdictions, or other criteria). How many state and local response teams are located in your jurisdiction? What is the estimated coverage of these teams (e.g., the percent of state jurisdictions covered)?

Overall Program Evaluation

1. Using a scale of 1-5 (with 5 being excellent and 1 being poor), how well has the HMEP grants program met your need for preparing hazmat emergency responders?

2. Using a scale of 1-5 (with 5 being excellent and 1 being poor), how well do you think the HMEP grants program will meet your future needs?

3. What areas of the HMEP grants program would you recommend for enhancement?

II. Discussion of Comments

The comment period for the 60-Day notice closed on September 5, 2007. PHMSA received 16 comments from the following companies, organizations, and individuals: (1) The American Trucking Association (ATA); (2) Colorado Emergency Planning Commission; (3) Kevin Crawford; (4) Robert E. Dopp; (5) Delaware Emergency Management Agency; (6) the Institute of Makers of Explosives (IME); (7) Lyle Milby; (8) Timothy Gablehouse; (9) Steven Goza; (10) Donald K. Hall; (11) the National Tank Truck Carriers (NTTC); (12) the Nuclear Energy Institute (NEI); (13) Oklahoma Hazardous Materials Emergency Response Commission; (14) James J. Plum; (15) Daniel Roe; and (16) the State of Wisconsin/Department of Military Affairs Wisconsin Emergency Management. On October 12, 2007, we received an additional comment from the Interested Parties for Hazardous Materials Transportation (Interested Parties) which had been filed with OMB. In addition, the National Association of SARA Title III Program Officials and the Oklahoma Hazardous Materials Response Commission submitted letters to OMB and copied PHMSA in response to the October 12 comment from the Interested Parties. All comments are included in the docket for this notice and are available for review at the Federal eRulemaking Portal at http://www.regulations.gov.

Commenters expressing support for revisions to the HMEP application kit include ATA, IME, NEI, and NTTC. These commenters generally agree that additional information from grantees will assist PHMSA to evaluate the emergency response funding needs of states and Indian tribes and promote more effective use of HMEP grant funds. For example, in expressing its support, ATA, the national representative of over 37,000 trucking companies, states that the information being sought by PHMSA is critical to the effective administration of the HMEP grant program.

In its support of the proposed revisions, NEI states that although limited resources will be expended responding to the additional questions, the net result is a better use of funds nationwide and improved responses to events involving hazardous materials. Similarly, NTTC, a trade association comprised of 210 trucking companies, states the additional information resulting from the HMEP revisions is necessary to “ensure proper funds allocation based on need under the HMEP grant program,” and will enable PHMSA “to better determine whether states' fees are properly apportioned and being utilized for purposes associated with hazardous materials transportation.”

In its comments, IME, the safety and security association of the commercial explosives industry, states that because its members are both shippers and carriers subject to fees that support the HMEP grants program, it has a keen interest in how these funds are used. The commenter supports PHMSA's efforts to accurately evaluate the effectiveness of its grants program through the proposed questions, and asserts that utilizing the HMEP grant application process is the least burdensome method to capture the information authorized by section 5125 of the Federal hazmat law.

In its October 12 comment sent to OMB and copied to PHMSA, the Interested Parties suggest that the additional questions will aid the agency's risk-based approach while ensuring that legislative intent is achieved.

Commenters opposing the revisions include Colorado Emergency Planning Commission; Kevin Crawford; Delaware Emergency Management Agency; Robert E. Dopp; Lyle Milby; Timothy Gablehouse; Steven Goza; Donald K. Hall; Oklahoma Hazardous Materials Emergency Response Commission; James J. Plum; Daniel Roe; and the State of Wisconsin/Department of Military Affairs Wisconsin Emergency Management. The comments address three inter-related areas: (1) The need for the additional information, particularly the information on fees; (2) concern that funding may be reduced or eliminated based on grantees' responses to the additional questions; and (3) whether the additional information collection burden resulting from the additional questions is off-set by measurable benefits. These comments are addressed below. In addition, the National Association of SARA Title III Program Officials and the Oklahoma Hazardous Materials Response Commission submitted letters to OMB and copied PHMSA in response to the October 12 comment from the Interested Parties. Both commenters question the motivation of the Interested Parties for submitting its comment and express opposition to the revisions of this ICR.

A. Need for the Additional Information

Several commenters suggest that PHMSA's motivation in proposing to collect more detailed information on hazardous materials fees is to make it easier for hazardous materials shippers and carriers to challenge the fees. These commenters assert that aggrieved industry parties already have sufficient tools to pursue challenges to specific fees by utilizing the preemption provisions in Federal hazmat law and that information on hazardous materials fees assessed by state or tribal governments is already available through other sources. One commenter suggests that PHMSA “should have the industries claiming that they pay fees to the states and tribes (and perhaps local entities), identify themselves to PHMSA, at the Secretary of Transportation's request. The facility could identify the state/tribe and agency to which they pay those fees and the amount of the fees, so that U.S. DOT nationally could wrap its arms around the issue to determine if there is, in fact, an identifiable problem.” A second commenter suggests that PHMSA conduct a further study of the proposed revisions to the grant application kit, such as convening a stakeholder's forum to include both state and tribal governments and industry representation to discuss issues related to the assessment and uses of hazardous materials fees.

Commenters are not correct that PHMSA is proposing to require HMEP grant applicants to submit information concerning hazardous materials fees as a means to assist hazardous materials shippers or carriers to challenge those fees through preemption or other means. In awarding HMEP grants, PHMSA is required by the Federal hazmat law to consider whether the state or tribe imposes and collects a fee on the transportation of hazardous materials and whether the fee is used only to carry out a purpose related to the transportation of hazardous materials. The information we are requesting in the revised grant application kit is consistent with our statutory mandate.

We disagree with the commenters that suggest information concerning hazardous materials fees assessed by state or tribal governments is readily available through other sources. We have considered utilizing internet or other resources, but generally we have found that the information is not consistently available or reliably accurate. We note in this regard that commenters' suggestions concerning other methods for collecting information on state or tribal hazardous materials fees, such as through a separate survey or stakeholder meeting, would impose a similar or greater burden on respondents as the questions we propose to add to the grant application kit. Moreover, the overall response from state or tribal governments to such methods would likely be somewhat less than the overall response to the questions in the grant application kit and would not provide data to evaluate the effectiveness of the grant program.

B. Reduced Funding

A number of commenters express concern that HMEP grant funding for individual state or tribal governments may be reduced or eliminated as a result of responses by the applicants to the additional questions. For instance, Mr. Johnnie L. Smith of the State of Wisconsin/Department of Military Affairs Wisconsin Emergency Management states that “It would be inappropriate to withhold or reduce a state's HMEP funding not supported by the appropriate legal action.” The commenter continues by stating that “* * * there is no reason why the emergency management community should be penalized by lost or reduced funding and why essential planning and training should not be performed.” The Colorado Emergency Planning Commission writes that “The collection of additional information in the manner advocated by petitioner and other commenters is unjustified because their suggested use of that information is improper.” Mr. Kevin Crawford comments that “As HMEP funding is the bulk of the resources * * * industry's efforts to penalize states by artificially evaluating the use of funds is ill-conceived at best.”

In proposing additional questions for inclusion in the grant application kit, PHMSA has no intent to penalize grant recipients by the reduction or elimination of grant funds. Rather, our purpose in proposing the revised questions is to enable us to work with grantees to promote the effective use of HMEP grant funds and identify additional state or Indian tribe emergency response planning and training needs.

We note in this regard that the HMEP grant program was established over 15 years ago and has continued with few changes since its initial implementation. HMEP grantees have used program funds to train first responders; conduct commodity flow studies; write or update emergency plans; conduct emergency response exercises; and assist local emergency planning committees. As indicated above, the HMEP grant program is funded by registration fees paid by hazardous materials shippers and carriers. It is incumbent on the agency administering the grant program as well as the grantees themselves to ascertain that the program is accountable to those who fund it and is as effective as possible in meeting its emergency response planning and training goals.

The information we are requesting will provide data to evaluate emergency response planning and training programs conducted by states and Indian tribes. The development of accurate output information will also summarize the achievements of the HMEP grant program. This is especially important in light of the increase in grant funding authorized under the Hazardous Materials Safety and Security Reauthorization Act (Title VII of the Safe, Accountable, Flexible, Efficient Transportation Equity Act: A Legacy for Users), enacted on August 10, 2005. Under the Act, authorized funding for the HMEP grant program effectively doubles, from $14.3 million to $28 million. The information we seek from grantees will enhance emergency response preparedness and response by allowing PHMSA and its state and tribal partners to target gaps in current planning and training efforts and focus on strategies that have been proven to be effective.

C. Increased Information Collection Burden

Many of the commenters who oppose the proposed revisions to the grant application kit consider them to be an excessive burden on applicants without a measurable benefit or an identified use of the information. For example, Ms. Montressa Jo Elder of the Oklahoma Hazardous Materials Emergency Response Commission comments that “These burdens are not trivial. Our local emergency planning committees and most of our rural fire departments are volunteer groups. Devoting time and energy to reports detracts from their other very important missions.” Mr. Daniel Roe states that “the proposed notice is going to place quite a burden not only on states, but on all funding recipients, to include tribes, locals and others.” The commenter further states that “funds that clearly are productively used for planning and training functions and are now adequately documented will be diverted to administrative burdens, the utility of which is quite questionable.” Mr. Timothy Gablehouse states that “it is unclear how the addition of the proposed questions to the ICR would enable PHMSA to glean any additional information about how effectively HMEP grant money is spent.” Similarly, Mr. Robert E. Dopp states that “We do not believe that DOT/PHMSA should impose the burden of information collection without a clear plan and purpose to use the information in a fashion that comports with statute and regulation. At this point all we really have is the advocacy of outsiders regarding the use of the information. Until and unless DOT/PHMSA is clear in its plans for the use of the information it appears that the proposed collection activity is simply an increased burden without a purpose.” The Colorado Emergency Planning Commission also notes that, as stated in PHMSA's previous Federal Register notice, a large percentage of the information is already collected.

PHMSA appreciates commenters' concerns that the additional burden resulting from the proposed revisions to the way grantees report on the programs funded by the HMEP grants may detract from grantees planning and training efforts. We continue to believe, however, that grantees' performance reports should include both quantitative and qualitative data in sufficient detail to enable the grantees and PHMSA to evaluate the programs, identify effective planning and training strategies, and target areas where improvements are needed. Grantees are currently required to provide data on the planning and training programs they administer; the more detailed information we are requesting should be readily available.

Nonetheless, in an effort to address the commenters concerns, we have revised the list of questions we initially proposed to modify those for which information can be obtained through other means, such as through discussions at our meetings and conferences with grant recipients. We have also reconfigured the questions to provide a more user-friendly format. We believe these adjustments will help to minimize the impact of the information collection burden on grantees. We have also identified two additional grantees and have revised the total number of respondents. Subsequently, we reviewed the burden hours and have re-calculated the information collection burden associated with responding to the questions. The revised questions and information collection burden estimates are detailed under the “Revised HMEP Questions and Information Collection Burden” section of this notice.

III. Revised HMEP Questions and Information Collection Burden

Beginning with the application for FY 2008 funds, applicants will be asked to respond to the following additional questions:

Hazardous Materials Fees

1. Does your state or tribe assess a fee or fees in connection with the transportation of hazardous materials?

2. If the answer to question 1 is “yes,”

a. What state agency administers the fee?

b. What is the amount of the fee and the basis on which the fee is assessed? Examples of the bases on which fees may be assessed include: (1) An annual fee for each company which transports hazardous materials within your state or tribal territory; (2) a fee for each truck or vehicle used to transport hazardous materials within your state or tribal territory; (3) a fee for certain commodities or quantities of hazardous materials transported in your state or tribal territory; or (4) a fee for each hazardous materials shipment transiting your state or tribal territory.

c. Is company size considered when assessing the fee? For instance, do companies meeting the Small Business Administration's (SBA) definition of a small business pay the same or lesser fee amount than companies that do not meet the SBA definition?

d. For what purpose(s) is the revenue from the fee used? For example, is the revenue used to support hazardous materials transportation enforcement programs? Is the fee used to support planning, developing, and maintaining an emergency response capability?

e. What is the total annual amount of the revenue collected for the last fiscal year or 12-month accounting period?

Planning Grants

1. Of the total amount of HMEP planning grant funds, what amount was used to assist Local Emergency Planning Committees (LEPCs)? How many were assisted using HMEP funds?

a. Did the LEPCs complete or update assessments of commodity flow patterns in their jurisdictions? If so, how many? What was the total amount of HMEP planning grant funds devoted to this effort?

b. Did the LEPCs complete or update assessments of the emergency response capabilities in their jurisdictions? If so, how many? What was the total amount of HMEP planning grant funds devoted to this effort?

c. Did the LEPCs develop or improve emergency plans for their jurisdictions? If so, how many plans were either developed or updated? What was the total amount of HMEP planning grant funds devoted to this effort?

d. Did the LEPCs conduct exercises to support their emergency plans? If so, how many exercises were conducted? Did any of these exercises include shipper or carrier participation? What was the total amount of HMEP planning grant funds devoted to emergency response drills or exercises of all types?

e. What was the total amount of HMEP planning grant funds devoted to other authorized activities by LEPCs (e.g., providing technical staff in support of emergency response planning efforts)?

2. Other than to assist LEPCs as addressed in Question 1, of the total amount of HMEP planning grant funds, what amount was used by the grantee (state or tribal government) to improve emergency response planning within the grantee's jurisdiction?

a. Did the grantee complete or update an assessment of commodity flow patterns in its entire jurisdiction? What was the total amount of HMEP planning grant funds devoted to this effort?

b. Did the grantee complete or update an assessment of emergency response capabilities in its entire jurisdiction? What was the total amount of HMEP planning grant funds devoted to this effort?

c. Did the grantee develop or improve an emergency plan for its entire jurisdiction? What was the total amount of HMEP planning grant funds devoted to this effort?

d. Did the grantee conduct exercises to support its emergency plan? How many exercises were conducted? Did any of these exercises include shipper or carrier participation? What was the total amount of HMEP planning grant funds devoted to emergency response drills or exercises of all types?

e. What was the total amount of HMEP planning grant funds devoted to other authorized planning activities by the grantee (e.g., providing technical staff in support of emergency response planning efforts)?

3. Based on the activities outlined above, how well has the HMEP grants program met emergency response planning needs within your jurisdiction? Does your current ability to provide planning enable you to meet the needs you have identified? Do you have any recommendations for additional activities or programs that could further enhance your emergency response planning capabilities?

Training Grants

1. What was the total amount of HMEP training grant funds utilized to assess training needs and provide training for emergency response personnel in your jurisdiction?

a. Did you complete or update an assessment of the training needs of the emergency response personnel in your jurisdiction? What was the total amount of HMEP training grant funds devoted to this effort?

b. How many individuals were trained in whole or in part using HMEP training grant funds? You should include separate totals for numbers of fire, police, emergency medical services (EMS) or other personnel who were trained and the type of training provided. (Note that “other” personnel include public works employees, accident clean-up crews, and liaison and support officers. Note also that if HMEP training grant funds were used in any way to support the training, such as for books or equipment, you should show that the training was partially funded by HMEP training grant funds.) What was the total amount of HMEP training grant funds devoted to this effort?

c. Did you provide incident command systems training? If so, provide separate indications for the numbers of fire, policy, EMS, or other personnel who were trained. What was the total amount of HMEP training grant funds devoted to this effort?

d. Did you develop new training using HMEP training grant funds in whole or in part, such as training in handling specific types of incidents of specific types of materials? If so, briefly describe the new programs. Did a commodity flow assessment influence the development of new training programs? Was the program qualified using the HMEP Curriculum Guidelines process? What was the total amount of HMEP training grant funds devoted to this effort?

e. What was the total amount of HMEP planning grant funds devoted to other authorized training activities (e.g., activities necessary to monitor training, including examinations, critiques, and instructor evaluations; management activities to increase the benefits, proficiency, and rapid deployment of emergency responders)?

2. Do you have a system in place for measuring the effectiveness of emergency response to hazardous materials incidents in your jurisdiction? Describe the criteria you use (total response time, total time at an accident scene, communication among different agencies or jurisdictions, or other criteria). How many state and local response teams are located in your jurisdiction? What is the estimated coverage of these teams (e.g., the percent of state jurisdictions covered)?

3. Based on the activities outlined above, how well has the HMEP grants program met emergency response training needs within your jurisdiction? Does your current ability to provide training enable you to meet the needs you have identified? Do you have any recommendations for additional activities or programs that could further enhance the effectiveness of emergency response to hazardous materials incidents in your jurisdiction?

The total revised information collection budget for the HMEP grants program follows:

Title: Hazardous Materials Public Sector Training and Planning Grants.

OMB Control Number: 2137-0586.

Type of Request: Revision of a currently approved information collection.

Abstract: Part 110 of 49 CFR sets forth the procedures for reimbursable grants for public sector planning and training in support of the emergency planning and training efforts of states, Indian tribes and local communities to manage hazardous materials emergencies, particularly those involving transportation. Sections in this part address information collection and recordkeeping with regard to applying for grants, monitoring expenditures, and reporting and requesting modifications.

Affected Public: State and local governments, Indian tribes.

Recordkeeping:

Number of Respondents: 68.

Total Number of Responses: 68.

Total Annual Burden Hours: 5,428.

Frequency of collection: On occasion.

Issued in Washington, DC on November 15, 2007.
Edward T. Mazzullo,
Director, Office of Hazardous Materials Standards.

[FR Doc. E7-22689 Filed 11-20-07; 8:45 am]

BILLING CODE 4910-60-P